DEPARTMENT OF DEFENSE

Office of the Secretary

[Docket ID: DoD-2024-OS-0042]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 24, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Child and Youth Programs, 4800 Mark Center Drive, Suite 3G15, Alexandria, VA 22350, ATTN: Stacey Young, (571) 372-0867.

SUPPLEMENTARY INFORMATION:

Title; Associated Form; and OMB Number: Military Child Development Program Workforce Case Studies; OMB Control Number 0704-MCDS.

Needs and Uses: This project is needed to analyze, identify, and offer solutions for factors contributing to the staffing issues to support DoD in making informed decisions on ways to improve the strategies to recruit, train, and retain qualified staff within the Child Development Program.

Affected Public: Individuals or households; Federal Government.

Annual Burden Hours: 204.

Number of Respondents: 204.

Responses per Respondent: 1.

Annual Responses: 204.

Average Burden per Response: 60 minutes.

Frequency: Once.

Dated: April 19, 2024.
Aaron T. Siegel,
Alternate OSD Federal Register Liaison Officer, Department of Defense.

[FR Doc. 2024-08858 Filed 4-24-24; 8:45 am]

BILLING CODE 6001-FR-P